DEPARTMENT OF STATE

[Public Notice 4582]

Determinations Pursuant to Executive Order 13224

In the Matter of the Amended Designations of the Kurdistan Freedom and Democracy Congress also known as the Freedom and Democracy Congress of Kurdistan, also known as KADEK, also known as the Kurdistan Workers' Party, also known as the PKK, also known as Partiya Karkeran Kurdistan, also known as the People's Defense Force, also known as Halu Mesru Savunma Kuvveti (HSK), also known as Kurdistan People's Congress (KHK), also known as People's Congress of Kurdistan, also known as KONGRA-GEL, as a Foreign Terrorist Organization pursuant to Section 219 of the Immigration and Nationality Act and pursuant to Section 1(b) of Executive Order 13224.

Based upon a review of the administrative record assembled in this matter, and in consultation with the Attorney General, the Secretary of the Treasury, and the Secretary of Homeland Security, the Deputy Secretary of State has concluded that there is a sufficient factual basis to find that the Kurdistan Workers' Party, also known as the Freedom and Democracy Congress of Kurdistan and other aliases, has changed its name to the Kurdistan People's Congress (KHK), also known as People's Congress of Kurdistan, and also known as KONGRA-GEL, and that the relevant circumstances described in Section 219(a)(1) of the Immigration and Nationality Act, as amended (the “INA”) (8 U.S.C. 1189(a)(1)), and in Section 1(b) of Executive Order 13224, as amended (“E.O. 13224”), still exist with respect to that organization.

Therefore, the Deputy Secretary of State hereby further amends the designation of that organization as a foreign terrorist organization, pursuant to Section 219(a)(4)(B) of the INA (8 U.S.C. 1189(a)(4)(B)), and further amends the 2001 designation of that organization pursuant to Section 1(b) of E.O. 13224, to include the following new names: Kurdistan People's Congress (KHK), People's Congress of Kurdistan, KONGRA-GEL.

Consistent with the determination in section 10 of Executive Order 13224 that “prior notice to persons determined to be subject to the Order who might have a constitutional presence in the United States would render ineffectual the blocking and other measures authorized in the Order because of the ability to transfer funds instantaneously”, no prior notice need be provided to any person subject to this determination who might have a constitutional presence in the United States, because to do so would render ineffectual the measures authorized in the Order.

Dated: January 5, 2004.
Cofer Black,
Coordinator for Counterterrorism, Department of State.

[FR Doc. 04-576 Filed 1-12-04; 5:00 pm]

BILLING CODE 4710-10-P